DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Standards Subcommittee Meeting.

Date and Times: Monday, March 26, 2018: 9:00 a.m.-3:30 p.m. (EDT).

Place: Virtual.

Status: Open. There will be an open comment period during the final 15 minutes of the committee meeting.

Purpose: Health Insurance Portability and Accountability Act (HIPAA) legislation from 1996, as amended,¹ directed the Secretary of HHS to publish regulations adopting standards, code sets and identifiers to support the exchange of electronic health information between covered entities. The standards are for retail pharmacy and medical transactions. New versions of the adopted standards may be brought forward to NCVHS by the standards development organizations (SDOs) or through the Designated Standards Maintenance Organization (DSMO) after completion of a consensus based review and evaluation process.

¹ along with Section 1104 (c) of the Affordable Care Act.

On January 9, 2018, the DSMO submitted a letter to NCVHS recommending the adoption of two National Council of Prescription Drug Program (NCPDP) updates to the adopted retail pharmacy standards. These updates include: (1) An update to the retail pharmacy standard, the NCPDP Telecommunication and Batch standard version D.0., which was adopted in 2009. The update would be NCPDP Telecommunication and Batch standard version F2, which would enable eligibility verification, claims, services, information reporting, prior authorization (for pharmacy), and pre-determination of benefits; and (2) an update to the Medicaid subrogation standard, also adopted in 2009, to expand subrogation to all payers, including Medicare Parts C and D. The updated subrogation standard is the Batch Standard version 10, and replaces version 3.0. It will enable all payers to conduct a uniform process to support compliance with requirements for recovery of federal, state and other plan overpayments, mitigating manual processes currently in place.

The purpose of this NCVHS Standards Subcommittee hearing is to obtain input from stakeholders for the costs and benefits of implementing the updated versions of the two pharmacy standards: NCPDP F2 and pharmacy subrogation, and to understand how they would reduce existing barriers to the use of standards, or mitigate burdens.

The times and topics are subject to change. Please refer to the posted agenda for any updates.

Contact Persons for More Information: Substantive program information may be obtained from Rebecca Hines, MHS, Executive Secretary, NCVHS, National Center for Health Statistics, Centers for Disease Control and Prevention, 3311 Toledo Road, Hyattsville, Maryland 20782, telephone (301) 458-4715. Information pertaining to meeting content may be obtained from Lorraine Doo, MSW, MPH, or Geanelle G. Herring, MSW, Centers for Medicare & Medicaid Services, Office of Information Technology, Division of National Standards, 7500 Security Boulevard, Baltimore, Maryland, 21244, telephone (410) 786-6597. Summaries of meetings and a roster of Committee members are available on the NCVHS website: https://www.ncvhs.hhs.gov/, where further information including an agenda and instructions to access the live audio broadcast of the meetings will also be posted.

Should you require reasonable accommodation, please contact the CDC Office of Equal Employment Opportunity on (770) 488-3210 as soon as possible.

Dated: February 22, 2018.
Laina Bush,
Deputy Assistant Secretary for Planning and Evaluation, Office of the Assistant Secretary for Planning and Evaluation.

[FR Doc. 2018-04057 Filed 2-27-18; 8:45 am]

BILLING CODE 4150-05-P